DEPARTMENT OF TRANSPORTATION

Pipeline and Hazardous Materials Safety Administration

Actions on Special Permit Applications

AGENCY: Pipeline and Hazardous Materials Safety Administration (PHMSA), DOT.

ACTION: Notice of actions on Special Permit Applications.

SUMMARY: In accordance with the procedures governing the application for, and the processing of, special permits from the Department of Transportation's Hazardous Material Regulations (49 CFR Part 107, Subpart B), notice is hereby given of the actions on special permits applications in (July to July 2012). The mode of transportation involved are identified by a number in the “Nature of Application” portion of the table below as follows: 1—Motor vehicle, 2—Rail freight, 3—Cargo vessel, 4—Cargo aircraft only, 5—Passenger-carrying aircraft. Application numbers prefixed by the letters EE represent applications for Emergency Special Permits. It should be noted that some of the sections cited were those in effect at the time certain special permits were issued.

Issued in Washington, DC, on August 7, 2012.
Donald Burger,
Chief, Special Permits and ii ovals Branch.

S.P. No. | Applicant | Regulation(s) | Nature of special permit thereof
MODIFICATION SPECIAL PERMIT GRANTED
15258-M | Air Products and Chemicals, Inc. Tamaqua, PA | 49 CFR 180.205 and 173.302a | To modify the special permit to authorize additional cylinders which may be tested by the untrasonic test method.
14175-M | The Linde Group, Murray Hill, NJ | 49 CFR 180.209 | To modify the special permit to authorize additional Division 2.2 gases.
14924-M | Explosive Service International Ltd., Baton Rouge, LA | 49 CFR 176.144(e), § 176.145(b), § 176.137(b)(7), § 176.63(e), § 176.83; § 176.116(e); § 176.120; § 176.138(b); § 176.164(e); § 176.178(b) | To modify the special permit to waive the requirement for a fire pump under § 176.64(e).
15220-M | GasCon (Pty) Ltd, Cape Town, South Africa | 49 CFR 178.274(b) 178.277(b)(1) | To modify the special permit to increase the water capacity from 17000 liters (4500 USWG) liters min; to 45000 liters (11888 USWG) max.
11458-M | Costco Wholesale, Issaquah, WA | 49 CFR 172.203(a) and 173.156(b) | To modify the special permit to authorize transportation in commerce as a limited quantity in addition to ORM-D.
10232-M | ITW Sexton, Deccatur, AL | 49 CFR 173.304, 178.33(a) | To modify the special permit to authorize a higher burst pressure.
14978-M | Air Products and Chemicals, Inc., Allentown, PA | 49 CFR 173.181(c)(1) | To modify the special permit by removing the references to the drawings of the inner packaging.
11836-M | Hydrite Chemical Co., Brookfield, WI | 49 CFR 173.24; 173.203 | To modify the special permit by authorizing use of a UN 3H1 drum.
15661-M | Pyrotechnique by Grucci (PbG) Brookhaven, NY | 49 CFR, 49 CFR 173.52, 49 CFR 173.50 | To modify the special permit by authorizing additional containers of unapproved fireworks to be transported.
NEW SPECIAL PERMIT GRANTED
15515-N | National Aeronautics and Space Administration (NASA) Houston, TX | 49 CFR 173.302a, 173.301(0(1), 173.301(h)(3), 173.302(f)(2) and 173.302(f)(4) | To authorize the transportation in commerce of a non-DOT specification cylinder further packed in an ATA-300 Category 1 outer packaging. (modes 1, 2, 3, 4).
15593-N | ITW Sexton, Decatur, AL | 49 CFR 173.304a(d)(3), 178.33(a)(8) | To authorize the manufacture, marking and sale of a non-DOT specification container to be used for the transportation in commerce of UN 1075. (modes 1, 2, 3, 4).
15615-N | American Promotional Events, Inc.—East d/b/a TNT Fireworks Florence, AL | 49 CFR 171.8 | To authorize the transportation in comerce of UNO336 Fireworks in UN4G packaging with a capacity greater than 450 liters. (mode 1).
15617-N | Veolia ES Technical Solutions, L.L.C. Flanders, NJ | 49 CFR 173.192, § 177.848 | To authorize the transportation in commerce of waste phosgene in alternative packaging being transported to a disposal facility without meeting the segregation requirements for Division 2.3 gas Zone A materials within the transport vehicle. (mode 1).
15666-N | The Procter & Gamble Manufacturing Company West Chester, OH | 49 CFR 49 CFR 172.101, Appendix B, Paragraph 5 | Request to except a marine pollutant from being regulated as a marine pollutant. (modes 1, 2, 3, 4, 5).
EMERGENCY SPECIAL PERMIT GRANTED
15652-N | Vertical Solutions LLC, Valdez, AK | 49 CFR 172.101 Column(9B), 172.204(c)(3), 173.27(b)(2), 172.200, 172.300, Part 173, 175.30(a)(1) and 175.75 | To authorize the transportation in commerce of certain hazardous materials by 14 CFR Part 133 Rotorcraft External Load Operations transporting hazardous materials attached to or suspended from an aircraft, in remote areas of the U.S. only, without being subject to hazard communication requirements, quantity limitations and certain loading and stowage requirements. (mode 4).
15665-N | Airgas Nor Pac Vancouver, WA | 49 CFR 173.3(e) | To authorize the transportation in commerce of a DOT Specification 4AA cylinder containing anhydrous ammonia that developed a leak and is equipped with a Chlorine Institute Kit “A” to prevent leakage during transportation. (mode 1).
15667-N | Volga Dnepr—UNIQUE AIR CARGO, Inc Ulyanovsk | 49 CFR 172.101 Column (9B), 172.204(c)(3), 173.27, and 175.30(a)(1) | To authorize the transportation in commerce of certain Division 1.2 explosives that are forbidden for transportation by cargo only aircraft (mode 4).
NEW SPECIAL PERMIT WITHDRAWN
15494-N | Johnson Controls Battery Group, Inc., Milwaukee, WI | 49 CFR 173.159 | To authorize the transportation in commerce of certain actively leaking lead acid batteries in a special overpack by motor vehicle. (mode 1).
DENIED
15553-N | Request by Best Sanitizers, Inc. Walton, KY July 25, 2012. To authorize the transportation of non-bulk combination packages of medical grade instrument sanitizer and disinfectant materials using custom inner packagings placed within a strong outer fiberboard box.
15621-N | Request by Pacific Consolidated Industries, LLC Riverside, CA July 25, 2012. To authorize the transportation in commerce of brass-lined filament wound cylinders identified as Mobile Oxygen Storage Tanks filled with certain Division 2.1 and 2.2 gases.
15643-N | Request by Hunter Well Science Arlington, TX July 25, 2012. To authorize the transportation in commerce Sulfur hexafluoride, UN 1080 as limited quantity in a non-specification cylinder.
15662-N | Request by Department of State Washington, DC July 13, 2012. To authorize transportation in commerce of batteries without externally marking the outer package.

[FR Doc. 2012-19832 Filed 8-15-12; 8:45 am]

BILLING CODE 4909-60-M